SECURITIES AND EXCHANGE COMMISSION

[Release No. 34-45039; File No. SR-NSCC-2001-16]

Self-Regulatory Organizations; National Securities Clearing Corporation; Notice of Filing and Immediate Effectiveness of Proposed Rule Change Relating to Fee Schedules

November 7, 2001.

Pursuant to section 19(b)(1) of the Securities Exchange Act of 1934 (“Act”) ¹, notice is hereby given that on October 1, 2001, National Securities Clearing Corporation (“NSCC”) filed with the Securities and Exchange Commission (“Commission”) the proposed rule change as described in Items I, II, and III below, which items have been prepared primarily by NSCC. The Commission is publishing this notice to solicit comments on the proposed rule change from interested parties.

¹ 15 U.S.C. 78s(b)(1).

I. Self-Regulatory Organization's Statement of the Terms of Substance of the Proposed Rule Change

The proposed rule change would revise NSCC's fee schedule as it relates to NSCC's Insurance Processing Service.

II. Self-Regulatory Organization's Statement of the Purpose of, and Statutory Basis for, the Proposed Rule Change

In its filing with the Commission, NSCC included statements concerning the purpose of and basis for the proposed rule change and discussed any comments it received on the proposed rule change. The text of these statements may be examined at the places specified in Item IV below. NSCC has prepared summaries, set forth in sections (A), (B), and (C) below, of the most significant aspects of these statements.²

² The Commission has modified the text of the summaries prepared by NSCC.

(A) Self-Regulatory Organization's Statement of the Purpose of, and Statutory Basis for, the Proposed Rule Change

The purpose of the proposed rule change is to (1) establish fees for the Licensing and Appointments (“L&A”) feature of NSCC's Insurance Processing Service (“IPS”) effective as to services provided on and after October 1, 2001; (2) adjust the fees that NSCC charges for the Initial Application Information (“APP”) feature of IPS effective as to services provided on and after January 1, 2001; and (3) standardize the descriptions of IPS transmissions in NSCC's fee schedule.

Pursuant to this rule change, the transaction fee for L&S will be as follows: for each transmission of L&A information designated as a periodic reconciliation, $0.15 per item; for each other transmission of L&S information referred to as L&A transactions, $0.35 per item. No file fee will be applied to files that contain L&A transmissions.

The transaction fee for APP is $7.50 per transmission or receipt. Each transmission and receipt is considered an “item.” This rule change sets the transaction fee for APP as follows: from 0 to 249 items per month, $7.50 per item; from 250 to 999 items per month, $4.00 per item; from 1,000 to 2,499 items per month, $2.00 per item; and for more than 2,499 items per month, $1.00 per item. The file fee of $15.00 per file per day will continue to apply to APP.

Finally, this rule change standardizes the terminology in NSCC's fee schedule so that all transmissions of information through IPS are referred to as items and makes certain other clarifying changes.

The proposed rule change is consistent with the requirements of Section 17A of the Act and the rules and regulations thereunder applicable to NSCC because it provides for the equitable allocation of dues, fees, and other charges among NSCC's participants.

(B) Self-Regulatory Organization's Statement on Burden on Competition

NSCC does not believe that the proposed rule change will have an impact on or impose a burden on competition.

(C) Self-Regulatory Organization's Statement on Comments on the Proposed Rule Change Received From Members, Participants or Others

No written comments relating to the proposed rule change have been solicited or received. NSCC has notified participants who use IPS of the fee changes. NSCC will notify the Commission of any written comments received by NSCC.

III. Date of Effectiveness of the Proposed Rule Change and Timing for Commission Act

The foregoing rule change has become effective pursuant to section 19(b)(3)(A)(ii) of the Act ³ and Rule 19b-4(f)(2) ⁴ thereunder because the proposed rule change is changing a due, fee, or charge imposed by NSCC. At any time within sixty days of the filing of such rule change, the Commission may summarily abrogate such rule change if it appears to the Commission that such action is necessary or appropriate in the public interest, for the protection of investors, or otherwise in furtherance of the purposes of the Act.

³ 15 U.S.C. 78s(b)(3)(A)(ii)

⁴ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, NW, Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street, NW, Washington, DC 20549. Copies of such filing also will be available for inspection and copying at the principal office of NSCC. All submissions should refer to File No. SR-NSCC-2001-16 and should be submitted by December 5, 2001.

For the Commission, by the Division of Market Regulations, pursuant to delegated authority.⁵
⁵ 17 CFR 200.30-3(a)(12).
Margaret H. McFarland,
Deputy Secretary.

[FR Doc. 01-28490 Filed 11-13-01; 8:45 am]

BILLING CODE 8010-01-M